FEDERAL COMMUNICATIONS COMMISSION

47 CFR Part 73

[DA 04-735; MB Docket No. 03-245, RM-10826]

Radio Broadcasting Services; Durant, Oklahoma and Whitewright, TX

AGENCY: Federal Communications Commission.

ACTION: Final rule.

SUMMARY: In response to a Notice of Proposed Rule Making, 68 FR 74202 (December 23,2003) this Report and Order dismisses the Petition for Rule Making in MB Docket No. 03-245 proposing to reallot Channel 248C2 from Durant, Oklahoma, to Whitewright, Texas. The petitioner had requested this dismissal.

FOR FURTHER INFORMATION CONTACT: R. Barthen Gorman, Media Bureau, (202) 418-2180.

SUPPLEMENTARY INFORMATION: This is a synopsis of the Commission's Report and Order, MB Docket No. 03-245, adopted March 17, 2004, and released March 19, 2004. The full text of this Commission decision is available for inspection and copying during normal business hours in the FCC's Reference Information Center at Portals II, 445 12th Street, SW., Room CY-A257, Washington, DC, 20554. The document may also be purchased from the Commission's duplicating contractor, Qualex International, Portals II, 445 12th Street, SW., Room CY-B402, Washington, DC, 20554, telephone 202 863-2893, facsimile 202 863-2898, or via e-mail qualexint aol.com. This document is not subject to the Congressional Review Act.

Federal Communications Commission.
John A. Karousos,
Assistant Chief, Audio Division, Media Bureau.

[FR Doc. 04-7371 Filed 3-31-04; 8:45 am]

BILLING CODE 6712-01-P